INTERNATIONAL TRADE COMMISSION

[Investigation No. 701-TA-741 (Final)]

Paper File Folders From Cambodia; Supplemental Schedule for the Final Phase of a Countervailing Duty Investigation

AGENCY: United States International Trade Commission.

ACTION: Notice.

DATES: December 29, 2025.

FOR FURTHER INFORMATION CONTACT: Mary Messer (202-205-3193), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective May 29, 2025, the Commission established a general schedule for the conduct of the final phase of its countervailing duty investigation on paper file folders from Cambodia and its antidumping duty investigations on paper file folders from Cambodia and Sri Lanka (90 FR 23708, June 4, 2025), following preliminary determinations by the U.S. Department of Commerce (“Commerce”) that imports of paper file folders from Cambodia are subsidized by the government of Cambodia (90 FR 14110, March 28, 2025), that imports of paper file folders from Cambodia are not being and are not likely to be sold in the United States at less than fair value (“LTFV”) (90 FR 22694, May 29, 2025), and that imports of paper file folders from Sri Lanka are being sold in the United States at LTFV (90 FR 22696, May 29, 2025). Notice of the scheduling of the final phase of the Commission's investigations and of a public hearing to be held in connection therewith was given by posting copies of the notice in the Office of the Secretary, U.S. International Trade Commission, Washington, DC, and by publishing the notice in the Federal Register on June 4, 2025 (90 FR 23708). Following a request by counsel for the Coalition of Domestic Folder Manufacturers to cancel the scheduled hearing and absent other requests to appear at the hearing, the public hearing scheduled in connection with these investigations was cancelled (90 FR 37886, August 6, 2025).

On August 8, 2025, Commerce published in the Federal Register its final affirmative antidumping duty determinations with respect to paper file folders from Sri Lanka (90 FR 38460). The Commission subsequently issued its final determination that an industry in the United States was materially injured by reason of imports of paper file folders from Sri Lanka provided for in subheading 4820.30.00 of the Harmonized Tariff Schedule of the United States that have been found by Commerce to be sold in the United States at LTFV (90 FR 45961, September 24, 2025).

On December 29, 2025, Commerce published its final affirmative countervailing duty determination with respect to paper file folders from Cambodia (90 FR 60631, December 29, 2025) and its final negative antidumping duty determination with respect to paper file folders from Cambodia (90 FR 60612, December 29, 2025). Accordingly, the Commission currently is issuing a supplemental schedule for its countervailing duty investigation on imports of paper file folders from Cambodia.

This supplemental schedule is as follows: the deadline for filing supplemental party comments on Commerce's final countervailing duty determination on Cambodia is 5:15 p.m. on January 12, 2026. Supplemental party comments may address only Commerce's final countervailing duty determination regarding imports of paper file folders from Cambodia. These supplemental final comments may not contain new factual information and may not exceed five (5) pages in length. The supplemental staff report in the final phase of the current investigation will be placed in the nonpublic record on January 20, 2026, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Please note the Secretary's Office will accept only electronic filings during this time. Filings must be made through the Commission's Electronic Document Information System (EDIS, https://edis.usitc.gov). No in-person paper-based filings or paper copies of any electronic filings will be accepted until further notice.

Authority: This proceeding is being conducted under authority of title VII of the Tariff Act of 1930; this notice is published pursuant to section 207.21 of the Commission's rules.

By order of the Commission.
Issued: December 31, 2025.
Susan Orndoff,
Supervisory Attorney.

[FR Doc. 2025-24284 Filed 1-5-26; 8:45 am]

BILLING CODE 7020-02-P